DEPARTMENT OF AGRICULTURE

Forest Service

Humboldt (NV) Resource Advisory Committee

AGENCY: Forest Service, USDA.

ACTION: Notice of meeting.

SUMMARY: The Humboldt (NV) Resource Advisory Committee (RAC) will meet in Winnemucca, Nevada. The committee is authorized under the Secure Rural Schools and Community Self-Determination Act (the Act) and operates in compliance with the Federal Advisory Committee Act. The purpose of the committee is to improve collaborative relationships and to provide advice and recommendations to the Forest Service concerning projects and funding consistent with the Act.

DATES: The meeting will be held on March 29, 2017, at 9:00 a.m., Pacific Standard Time (PST). All RAC meetings are subject to cancellation. For status of meeting prior to attendance, please contact the person listed under For Further Information Contact.

ADDRESSES: The meeting will be held at the USDA Service Center, 3275 Fountain Way, Winnemucca, Nevada 89445. The meeting can also be attended by teleconference. For anyone who would like to attend by teleconference, please visit http://fs.usda.gov/goto/htnf/rac or contact the person listed under For Further Information Contact.

Written comments may be submitted as described under Supplementary Information. All comments, including names and addresses when provided, are placed in the record and are available for public inspection and copying. The public may inspect comments received at the USDA Service Center. Please call ahead to facilitate entry into the building.

FOR FURTHER INFORMATION CONTACT: Joseph Garrotto, Designated Federal Officer, by phone at (775) 352-1215 or via email at jgarrotto@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Elect Chair/Vice Chairperson, and

2. Review and recommend project proposals for Title II funds.

The meeting is open to the public. The agenda will include time for people to make oral statements of three minutes or less. Individuals wishing to make an oral statement should request in writing by March 15, 2017, to be scheduled on the agenda. Anyone who would like to bring related matters to the attention of the committee may file written statements with the committee staff before or after the meeting. Written comments and requests for time to make oral comments must be sent to Wendy Markham, RAC Coordinator; by email to wmarkahm@fs.fed.us, or via facsimile to 775-623-9134.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: February 24, 2017.
Glenn Casamassa,
Acting Associate Deputy Chief, National Forest System.

[FR Doc. 2017-05101 Filed 3-14-17; 8:45 am]

BILLING CODE 3411-15-P